ENVIRONMENTAL PROTECTION AGENCY

40 CFR Part 63

[EPA-HQ-OAR-2004-0305; FRL-9296-6]

RIN 2060-AQ43

National Emission Standards for Hazardous Air Pollutants: Primary Lead Smelting

AGENCY: Environmental Protection Agency (EPA).

ACTION: Extension of public comment period.

SUMMARY: On February 17, 2011, EPA proposed amendments to the National Emission Standards for Hazardous Air Pollutants for Primary Lead Smelting (76 FR 9410). The EPA is extending the deadline for written comments on the proposed amendments by 19 days to May 8, 2011. The EPA received a request for this extension from the Doe Run Company, the sole covered facility. Doe Run Company requested the extension in order to analyze data and review the proposed amendments. EPA finds this request to be reasonable due to the significant changes the proposal would make to the current rule.

DATES: Comments must be received on or before May 8, 2011.

ADDRESSES: Submit your comments, identified by Docket ID No. EPA-HQ-OAR-2004-0305, by one of the following methods:

• http://www.regulations.gov: Follow the online instructions for submitting comments.

• E-mail: a-and-r-docket@epa.gov. Attention Docket ID Number EPA-HQ-OAR-2004-0305.

• Fax: (202) 566-9744. Attention Docket ID Number EPA-HQ-OAR-2004-0305.

• Mail: U.S. Postal Service, send comments to: EPA Docket Center (6102T), EPA West (Air Docket), Attention Docket ID Number EPA-HQ-OAR-2004-0305, U.S. Environmental Protection Agency, Mailcode 2822T, 1200 Pennsylvania Ave., NW., Washington, DC 20460. Please include a total of two copies. In addition, please mail a copy of your comments on the information collection provisions to the Office of Information and Regulatory Affairs, Office of Management and Budget, Attn: Desk Officer for EPA, 725 17th St., NW., Washington, DC 20503.

• Hand Delivery: U.S. Environmental Protection Agency, EPA West (Air Docket), Room 3334, 1301 Constitution Avenue, NW., Washington, DC 20004, Attention Docket ID Number EPA-HQ-OAR-2004-0305. Such deliveries are only accepted during the Docket's normal hours of operation, and special arrangements should be made for deliveries of boxed information. Please include a total of two copies.

Instructions: Direct your comments to Docket ID No. EPA-HQ-OAR-2004-0305. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the EPA Docket Center, EPA West, Room 3334, 1301 Constitution Ave., NW., Washington, DC. The Public Reading Room is open from 8:30 a.m. to 4:30 p.m., Monday through Friday, excluding legal holidays. The telephone number for the Public Reading Room is (202) 566-1744, and the telephone number for the Docket Center is (202) 566-1742.

FOR FURTHER INFORMATION CONTACT: Questions concerning the proposed rule should be addressed to Mr. Nathan Topham, Office of Air Quality Planning and Standards, Sector Policies and Programs Division, Metals and Inorganic Chemicals Group (D243-02), Environmental Protection Agency, Research Triangle Park, NC 27711, telephone number: (919) 541-0483; fax number: (919) 541-3207; e-mail address: topham.nathan@epa.gov.

SUPPLEMENTARY INFORMATION: For the reasons noted above, the public comment period will now end on May 8, 2011.

How can I get copies of the proposed rule and other related information?

The proposed rule titled, National Emission Standards for Hazardous Air Pollutants: Primary Lead Smelting, was published February 17, 2011 (76 FR 9410). EPA has established the public docket for the proposed rulemaking under docket ID No. EPA-HQ-OAR-2004-0305, and a copy of the proposed rule is available in the docket. We note that, since the proposed rule was published, additional materials have been added to the docket. Information on how to access the docket is presented above in the ADDRESSES section.

Dated: April 12, 2011.
Gina McCarthy,
Assistant Administrator, Office of Air and Radiation.

[FR Doc. 2011-9287 Filed 4-15-11; 8:45 am]

BILLING CODE 6560-50-P